DEPARTMENT OF TRANSPORTATION

Federal Aviation Administration

Membership Availability in the National Parks Overflights Advisory Group Aviation Rulemaking Committee—Representatives of Environmental Concerns

ACTION: Notice.

SUMMARY: The National Park Service (NPS) and the Federal Aviation Administration (FAA), as required by the National Parks Air Tour Management Act of 2000, established the National Parks Overflights Advisory Group (NPOAG) in March 2001. The NPOAG was formed to provide continuing advice and counsel with respect to commercial air tour operations over and near national parks. This notice informs the public of two vacancies (due to completion of membership on May 30, 2008), on the NPOAG (now the NPOAG Aviation Rulemaking Committee (ARC)) for representatives of environmental concerns and invites interested persons to apply to fill the vacancies.

DATES: Persons interested in serving on the NPOAG ARC should contact Mr. Barry Bryer in writing and postmarked or e-mailed on or before December 5, 2007.

FOR FURTHER INFORMATION CONTACT: Barry Brayer, AWP-1SP, Special Programs Staff, Federal Aviation Administration, Western-Pacific Region Headquarters, P.O. Box 92007, Los Angeles, CA 90009-2007, telephone: (310) 725-3800, e-mail: Barry.Brayer@faa.gov or Karen Trevino, National Park Service, Natural Sounds Program, 1201 Oakridge Dr., Suite 100, Fort Collins, CO 80525, telephone (970) 225-3563, e-mail: karen_Trevino@nps.gov.

SUPPLEMENTARY INFORMATION:

Background

The National Parks Air Tour Management Act of 2000 (the Act) was enacted on April 5, 2000, as Public Law 106-181. The Act required the establishment of the advisory group within 1 year after its enactment. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

The advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Members of the advisory group may be allowed certain travel expenses as authorized by Section 5703 of Title 5, United States Code, for intermittent Government service.

By FAA Order No. 1110-138, signed by the FAA Administrator on October 10, 2003, the NPOAG became an Aviation Rulemaking Committee (ARC). FAA Order No. 1110-138, was amended and became effective as FAA Order No. 1110-138A, on January 20, 2006.

The current NPOAG ARC is made up of one member representing general aviation, three members representing the air tour industry, four members representing environmental concerns, and two members representing Native American interests. Current members of the NPOAG ARC are: Heidi Williams, Aircraft Owners and Pilots Association; Alan Stephen, fixed-winged air tour operator representative; Elling Halvorson, Papillon Airways, Inc.; Matthew Zuccaro, Helicopters Association International.; Chip Dennerlein, Siskiyou Project; Greg Miller, American Hiking Society; Mark Peterson, National Audubon Society; Don Barger, National Parks Conservation Association; Rory Majenty, Hualapai Nation; and Richard Deertract, Taos Pueblo.

Public Participation in the NPOAG ARC

In order to retain balance within the NPOAG ARC, the FAA and NPS invite persons interested in serving on the ARC to represent environmental concerns, to contact Mr. Barry Brayer (contact information is written above in FOR FURTHER INFORMATION CONTACT). Requests to serve on the ARC must be made to Mr. Brayer in writing and postmarked or e-mailed on or before December 5, 2007. The request should indicate whether or not you are a member of an association or group related to environmental issues or concerns or have another affiliation with issues relating to aircraft flights over national parks. The request should also state what expertise you would bring to the NPOAG ARC as related to environmental concerns. The term of service for NPOAG ARc members is 3 years.

Issued in Hawthorne, CA on October 22, 2007.
Barry Brayer,
Manager, Special Programs Staff, Western-Pacific Region.

[FR Doc. 07-5322 Filed 10-26-07; 8:45 am]

BILLING CODE 4910-13-M